POSTAL REGULATORY COMMISSION

[Docket No. MC2022-95; Order No. 6250]

Classification Changes

AGENCY: Postal Regulatory Commission.

ACTION: Notice.

SUMMARY: The Commission is recognizing a recent Postal Service filing requesting the removal of Parcel Return Service from the competitive product list. This notice informs the public of the filing, invites public comment, and takes other administrative steps.

DATES: Comments are due: September 16, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On August 12, 2022, pursuant to 39 U.S.C. 3642 and 39 CFR 3040.130 et seq., the Postal Service filed a request to remove Parcel Return Service from the competitive product list.¹ To support this request, the Postal Service filed a copy of the Governors' Decision supporting the request, a Statement of Supporting Justification, and proposed changes to the Mail Classification Schedule. See Request, Attachments A-C.

¹ USPS Request to Remove Parcel Return Service from the Competitive Product List, August 12, 2022 (Request).

II. Summary of Changes

The Postal Service requests to remove Parcel Return Service from the competitive product list effective January 22, 2023. See Request at 1. The Postal Service proposes this change because, as it asserts, Parcel Return Service is provided primarily through negotiated service agreements (NSAs), with only three existing “customers using Parcel Return Service at published rates.” Id. Attachment B at 1. According to the Postal Service, existing customers' Parcel Return Service volume would be “able to be covered via NSAs, as appropriate.” Id.

The Postal Service states that “[t]he elimination of Parcel Return Service from the competitive product list will simplify and streamline the Postal Service's product offerings, and minimize customer confusion.” Id. The Postal Service asserts that its request to remove Parcel Return Service from the competitive product list is consistent with applicable regulations. See id. The Postal Service further asserts that removing Parcel Return Service from the competitive product list will not result in the violation of 39 U.S.C. 3633 because the remaining competitive products are expected “to cover their attributable costs and make a positive contribution to institutional costs[.]” See id. at 2.

III. Notice of Commission Action

The Commission establishes Docket No. MC2022-95 to consider matters raised by the Request. Pursuant to 39 CFR 3040.133, the Commission has posted the Request on its website. The Commission invites comments on the Request. Comments are due no later than September 16, 2022. The filing can be accessed via the Commission's website (http://www.prc.gov).

The Commission appoints Kenneth E. Richardson to represent the interests of the general public (Public Representative) in this docket.

IV. Ordering Paragraphs

It is ordered:

1. The Commission establishes Docket No. MC2022-95 to consider matters raised by the Request.

2. Comments by interested persons are due by September 16, 2022.

3. Pursuant to 39 U.S.C. 505, Kenneth E. Richardson is appointed to serve as an officer of the Commission (Public Representative) to represent the interests of the general public in this proceeding.

4. The Commission directs the Secretary of the Commission to arrange for prompt publication of this notice in the Federal Register.

By the Commission.
Jennie L. Jbara,
Alternate Certifying Officer.

[FR Doc. 2022-17842 Filed 8-18-22; 8:45 am]

BILLING CODE 7710-FW-P